DEPARTMENT OF JUSTICE

Notice of Lodging of Proposed Consent Decree Under the Comprehensive Environmental Response, Compensation and Liability Act

On August 30, 2024, the Department of Justice lodged a proposed consent decree with the United States District Court for the Southern District of Texas, Corpus Christi Division, in the lawsuit entitled United States v. Energy Transfer (R&M), LLC, et al. Civil Action No. 2:23-CV-214. The proposed consent decree is between the United States and The Goodyear Tire & Rubber Company (“Goodyear”).

The United States asserted claims in this case under sections 107 and 113 of the Comprehensive Environmental Response, Compensation, and Liability Act (“CERCLA”), 42 U.S.C. 9607 and 9613(g)(2), seeking to recover unreimbursed response costs incurred by the United States in responding to releases of hazardous substances at the Brine Service Company Inc. Superfund Site (“Site”) in Corpus Christi, Nueces County, Texas, and a declaratory judgment for additional costs incurred in performing further response actions at the Site. Under the proposed Consent Decree, Goodyear agrees to perform cleanup activities in a portion of the Site (called the “North Pit”) and to pay the United States' future response costs in connection with overseeing the work. The United States will grant a covenant not to sue or to take administrative action against Goodyear pursuant to sections 106 and 107 of CERCLA, 42 U.S.C. 9606 and 9607.

The publication of this notice opens a period for public comment on the proposed Consent Decree. Comments on the proposed Consent Decree should be addressed to the Assistant Attorney General, Environment and Natural Resources Division, and should refer to United States v. Energy Transfer (R&M), LLC, et al., D.J. Ref. 90-11-3-10616/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: https://www.justice.gov/enrd/consent-decrees. If you require assistance accessing the consent decree, you may request assistance by email or by mail to the addresses provided above for submitting comments.

Thomas Carroll,
Assistant Section Chief, Environmental Enforcement Section, Environment and Natural Resources Division.

[FR Doc. 2024-20099 Filed 9-5-24; 8:45 am]

BILLING CODE 4410-15-P